DEPARTMENT OF HOMELAND SECURITY

48 CFR Parts 3001, 3002 and 3033

[Docket No. DHS-2007-0001]

RIN 1601-AA42

Department of Homeland Security Acquisition Regulation: Board of Contract Appeals Change

AGENCY: Department of Homeland Security.

ACTION: Final rule.

SUMMARY: The Department of Homeland Security (DHS) has adopted as final, without change, an interim rule amending the Homeland Security Acquisition Regulation (HSAR) to reflect a statutorily-mandated jurisdictional change for the agency Board of Contract Appeals (BCA). Specifically, BCA jurisdiction for DHS has transferred from the U.S. Department of Transportation Board of Contract Appeals to the Civilian Board of Contract Appeals. This rule also adopts as final, without change, several non-substantive amendments to DHS acquisition regulations in order to reflect organizational changes.

DATES: This rule is effective May 3, 2007.

FOR FURTHER INFORMATION CONTACT: Anne Terry, Department of Homeland Security, Office of the Chief Procurement Officer, Acquisition Policy, (202) 447-5253.

SUPPLEMENTARY INFORMATION:

I. Background

II. Discussion of Public Comments

III. Regulatory Analyses

A. Executive Order 12866 Assessment

B. Regulatory Flexibility Act

I. Background

DHS published an interim rule at 72 FR 1296 on January 11, 2007, to provide notice of HSAR changes that reflect a statutorily-mandated jurisdictional change for the agency Board of Contract Appeals (BCA). Specifically, BCA jurisdiction for DHS transferred from the U.S. Department of Transportation Board of Contract Appeals to the newly established Civilian Board of Contract Appeals (CBCA). In the National Defense Authorization Act for Fiscal Year 2006, Congress established the CBCA and terminated every agency BCA, except for those within the armed services, the Tennessee Valley Authority, and the U.S. Postal Service. See Public Law 109-163, section 847. Through January 5, 2007, the U.S. Department of Transportation's BCA handled DHS contract appeals. As of January 6, 2007, the CBCA handles DHS contract appeals. This rule also provides technical amendments to correct organizational information reflected in the HSAR.

II. Discussion of Public Comments

DHS received one public comment on the interim rule. The comment, however, did not address matters within the scope of the interim rule. DHS has adopted the interim rule as a final rule without change.

III. Regulatory Analyses

A. Executive Order 12866 Assessment

DHS has determined that this final rule is neither a major rule under 5 U.S.C. 804 nor a significant regulatory action under Executive Order 12866, Regulatory Planning and Review. It therefore does not require an assessment of potential costs and benefits under section 6(a)(3) of that Order, and the Office of Management and Budget has not reviewed it.

B. Regulatory Flexibility Act

Under the Regulatory Flexibility Act (5 U.S.C. 601-612), the term “small entities” comprises small businesses, not-for-profit organizations that are independently owned and operated and are not dominant in their fields, and governmental jurisdictions with populations of less than 50,000. This final rule is not expected to have a significant economic impact on a substantial number of small entities within the meaning of the Regulatory Flexibility Act.

List of Subjects in 48 CFR Parts 3001, 3002, and 3033

Government procurement.

Authority and Issuance

Accordingly, for the reasons stated in the preamble, the interim rule amending 48 CFR parts 3001, 3002, and 3033 that was published at 72 FR 1296 on January 11, 2007, is adopted as a final rule without change.

Dated: April 25, 2007.
Elaine C. Duke,
Chief Procurement Officer.

[FR Doc. E7-8420 Filed 5-2-07; 8:45 am]

BILLING CODE 4410-10-P